DEPARTMENT OF TRANSPORTATION

Research and Special Programs Administration

Office of Hazardous Materials Safety; Notice of Applications for Modification of Exemption

AGENCY: Research and Special Programs Administration, DOT.

ACTION: List of applications for modification of exemption.

SUMMARY: In accordance with the procedures governing the application for, and the processing of, exemptions from the Department of Transportation's Hazardous Material Regulations (49 CFR part 107, subpart B), notice is hereby given that the Office of Hazardous Materials Safety has received the application described herein. This notice is abbreviated to expedite docketing and public notice. Because the sections affected, modes of transportation, and the nature of application have been shown in earlier Federal Register publication, they are not repeated here. Request of modifications of exemptions (e.g. to provide for additional hazardous materials, packaging design changes, additional mode of transportation, etc.) are described in footnotes to the application number. Application numbers with the suffix “M” denote a modification request. These applications have been separated from the new application for exemption to facilitate processing.

DATES: Comments must be received on or before January 15, 2004.

ADDRESS COMMENTS TO: Record Center, Research and Special Programs Administration, U.S. Department of Transportation, Washington, DC 20590.

Comments should refer to the application number and be submitted in triplicate. If Confirmation of receipt of comments is desired, include a self-addressed stamped postcard showing the exemption number.

FOR FURTHER INFORMATION CONTACT: Copies of the applications are available for inspection in the Records Center, Nassif Building, 400 7th Street SW, Washington DC or at http://dms.dot.gov.

This notice of receipt of applications for modification of exemption is published in accordance with part 107 of the Federal hazardous materials transportation law (49 U.S.C. 5117(b); 49 CFR 1.53(b)).

Issued in Washington, DC, on December 24, 2003.
Ryan Posten,
Exemptions Program Officer, Office of Hazardous Materials Exemptions & Approvals.

Modification Exemptions
Application No. | Docket No. | Applicant | Regulation(s) affected | Modification of exemption | Nature of exemption thereof
11215-M |  | Orbital Sciences Corporation, Majave, CA | 49 CFR Part 172, Subparts C, D; 172.101, Special Provision 109 | 11215 | To modify the exemption to authorize an alternate takeoff/landing site of the L-1011/Pegasus fuel rocket.
11818-M |  | Raytheon Company, El Segundo, CA | 49 CFR 173.34(d) | 11818 | To modify the exemption to authorize alternative containers for the packaging and transport of heat pipes into larger assemblies in connection with a flight project spacecraft.
13181-M | RSPA-02-14022 | Thermo MF Physics, Colorado Springs, CO | 49 CFR 173.403; 173.424 | 13181 | To modify the exemption to authorize a design change of the high voltage accelerator system for the transportation of a Division 2.2 material.
13318-M | RSPA-03-16446 | Western Industries, Chilton, WI | 49 CFR 173.301; 177.840 | 13318 | To reissue the exemption originally issued on an emergency basis for the use of a DOT Specification cylinder packaged in an alternative method transporting certain Division 2.1 materials.

[FR Doc. 03-32194 Filed 12-30-03; 8:45 am]

BILLING CODE 4909-60-M